FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 2, 2021.

A. Federal Reserve Bank of Chicago (Colette A. Fried, Assistant Vice President) 230 South LaSalle Street, Chicago, Illinois 60690-1414:

1. The Foy 2021 Spousal Trust, Milwaukee, Wisconsin, Lori J. Foy, Cedarburg, Wisconsin, and Peter J. Wilder, Pewaukee, Wisconsin, as co-trustees; and the Foy Dynasty Trust, Milwaukee, Wisconsin, Peter J. Wilder, as trustee; to join the Foy/Lukas Family Control Group, a group acting in concert, to acquire voting shares of Community Bancshares of Wisconsin, Inc., and thereby indirectly acquire voting shares of Cornerstone Community Bank, both of Grafton, Wisconsin.

B. Federal Reserve Bank of St. Louis (Holly A. Rieser, Manager) P.O. Box 442, St. Louis, Missouri 63166-2034. Comments can also be sent electronically to Comments.applications@stls.frb.org:

1. The JFD Class B Common Trust (EDM), Ellen D. Milne, as trustee, both of Jackson, Wyoming; and the JFD Class B Common Trust (MJD), Creve Coeur, Missouri, Michael J. Dierberg, as trustee, St. Louis, Missouri; to acquire voting shares of FB Corporation, and thereby indirectly acquire voting shares of First Bank, both of Creve Coeur, Missouri.

C. Federal Reserve Bank of Minneapolis (Chris P. Wangen, Assistant Vice President), 90 Hennepin Avenue, Minneapolis, Minnesota 55480-0291:

1. The Barbara B. Fishback Revocable FFC Holdings Trust U/A dated 3/18/19, Barbara B. Fishback and Van D. Fishback, as co-trustees, all of Brookings, South Dakota; to join the Fishback family shareholder group, a group acting in concert, to retain voting shares of Fishback Financial Corporation, and thereby indirectly retain voting shares of First Bank & Trust, both of Brookings, South Dakota.

Board of Governors of the Federal Reserve System, October 13, 2021.
Michele Taylor Fennell,
Deputy Associate Secretary of the Board.

[FR Doc. 2021-22671 Filed 10-15-21; 8:45 am]

BILLING CODE P